GENERAL SERVICES ADMINISTRATION

41 CFR Part 102-117

[FMR Case 2014-102-2; Docket 2014-0015; Sequence 1]

RIN 3090-AJ45

Federal Management Regulation (FMR); Transportation Management; Transportation Reporting

AGENCY: Office of Government-wide Policy (OGP), General Services Administration (GSA).

ACTION: Final rule.

SUMMARY: GSA is amending the Federal Management Regulation (FMR) to recommend that agencies annually submit to GSA their prior fiscal year transaction level transportation data for freight and cargo, including household goods (HHG), procured either through contract or tender, as well as their transportation management information. The request for transaction level data and transportation management information is a change from the Notice of the Proposed Rulemaking's recommendation that agencies annually submit to GSA a summary of their transportation activities.

Specifically, this rule recommends that agencies report transaction level transportation data for freight and cargo, including HHG, such as shipments by procurement method, spending, transportation service providers (TSP), and shipping profiles. This rule also recommends that agencies report their transportation management information, such as environmental justice information, agency points of contact, and transportation officer warrant information and training data.

This rule will provide GSA the data necessary for analysis, which will assist GSA in developing enhanced Governmentwide transportation policies to make transportation management programs more efficient, cost-effective, and sustainable.

DATES: Effective: September 22, 2015.

FOR FURTHER INFORMATION CONTACT: For clarification of content, contact Ms. Lois Mandell, Office of Government-wide Policy, at (202) 501-2735 or by email at lois.mandell@gsa.gov. For information pertaining to status or publication schedules, contact the Regulatory Secretariat at 202-501-4755. Please cite FMR Case 2014-102-2.

SUPPLEMENTARY INFORMATION:

A. Background

In almost every purchase of supplies and equipment from vendors, something must be moved and delivered. Since the early 1860s, the Federal Government has procured transportation using either a contract or a tender of service (also called a rate tender). There are Federal transportation laws and regulations that govern each of the five modes of transportation (air, water, pipeline, rail, and ground). Each mode has advantages and disadvantages that should be evaluated for cost, sustainability, speed of delivery, etc. The expense of moving this freight or cargo, including HHG, can be managed by the agency, consolidated as a shared service across agencies, or the TSP, depending upon the contract or tender of service terms.

Over the last several years, GSA has worked with the Governmentwide Transportation Policy Council (GTPC) to identify key transportation performance measures, data elements, and collection standards necessary for more informed decision-making. The GTPC is composed of representatives from civilian agencies and the Department of Defense, and provides guidance in the planning and development of uniform transportation policies and procedures. Best in class organizations exhibit a consistent set of behaviors to identify and implement improved processes that maximize the efficiency, cost effectiveness, and sustainability of their transportation operations. Organizations seeking continuous improvement monitor, measure, and compare their performance against other organizations to improve return on investments, generate greater savings, enhance supply chain, and improve sustainability. The GTPC supports data collection as a necessary first step to improve transportation management.

In 2009, GSA contracted for a Governmentwide transportation management study. The study concluded that “most agencies have no single point of accountability for outbound transportation, have limited transparency into actual expenditures, and usually do not identify the most appropriate procurement method.” The study also identified inadequate research into the acquisition and selection of a TSP, and a lack of standard training, expertise, and operational approaches to transportation management. A 2012 GSA study identified the need for reliable Governmentwide transportation data.

This rule recommends that agencies report transaction level transportation data not otherwise provided in compliance with 31 U.S.C. 3726 to GSA's Transportation Audits Division, as well as agency transportation management information. The request for transaction level data is a change from the Notice of Proposed Rulemaking's recommendation that agencies annually submit to GSA a summary of their transportation activities.

The Federal Interagency Transportation System (FITS), a Web-based tool, will be used to capture an agency's voluntary submission of transaction level transportation data for freight and cargo, including HHG, procured either through contract or tender. FITS also can capture agency transportation management information. An FMR bulletin will provide information to agencies on the annual recommended submission process.

GSA's analysis of the data and information submitted by agencies will enable agencies to make decisions based upon factual information and will enable GSA to develop enhanced Governmentwide transportation policies to make transportation management programs more efficient, cost-effective, and sustainable.

B. Public Comment and Response

In the proposed rule published at 79 FR 41667 on July 17, 2014, GSA provided the public a 90-day comment period which ended on October 15, 2014. GSA received one comment from an anonymous source.

Comment: “Reporting is a great idea to take part in. The data that could be collected and used for analysis to better serve transportation management is what needs to be done. This allows the GSA to better understand where things can be improved and what could be the reason why it is not working more efficiently. The only way to create [sic] more sustainable and efficient transportation management is by collecting as much information to better understand.”

Response: No changes were made as a result of the comment.

C. Substantive Changes

This final rule:

• Revises 41 CFR part 102-117, subpart K, to recommend that agencies submit to GSA their prior fiscal year transaction level transportation data for freight and cargo, including HHG, procured either through contract or tender, as well as transportation management information. It is intended that agencies would voluntarily report transaction level transportation data not otherwise provided in compliance with 31 U.S.C. 3726 to the GSA's Transportation Audits Division.

• Redesignates the sections in 41 CFR part 102-117, subpart L.

D. Executive Orders 12866 and 13563

Executive Orders (E.O.) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action, and therefore, will not be subject to review under Section 6(b) of E.O. 12866, Regulatory Planning and Review, dated September 30, 1993. This final rule is not a major rule under 5 U.S.C. 804.

E. Regulatory Flexibility Act

These revisions are not substantive, and therefore, this final rule will not have a significant economic impact on a substantial number of small entities within the meaning of the Regulatory Flexibility Act, 5 U.S.C. 601, et seq. The final rule is also exempt from the Administrative Procedure Act per 5 U.S.C. 553(a)(2), because it applies to agency management or personnel.

F. Paperwork Reduction Act

The Paperwork Reduction Act does not apply because the final changes to the FMR do not impose recordkeeping or information collection requirements, or the collection of information from offerors, contractors, or members of the public that require the approval of the Office of Management and Budget under 44 U.S.C. 3501, et seq.

G. Small Business Regulatory Enforcement Fairness Act

This final rule is also exempt from Congressional review prescribed under 5 U.S.C. 801 since it relates to agency management or personnel.

List of Subjects in 41 CFR Part 102-117

Freight, Government property management, Moving of household goods, Reporting and recordkeeping requirements, Transportation.

Dated: September 9, 2015.
Denise Turner Roth,
Acting Administrator of General Services.

For the reasons set forth in the preamble, GSA amends 41 CFR part 102-117 as follows:

PART 102-117—TRANSPORTATION MANAGEMENT

1. The authority citation for 41 CFR part 102-117 continues to read as follows:

Authority: 31 U.S.C. 3726; 40 U.S.C. 121(c); 40 U.S.C. 501, et seq.; 46 U.S.C. 55305; 49 U.S.C. 40118.

§ 102-117.355 [Redesignated as § 102-117.361]

2. In subpart L, redesignate § 102-117.355 as § 102-117.361.

§ 102-117.360 [Redesignated as § 102-117.362]

3. In subpart L, redesignate § 102-117.360 as § 102-117.362.

4. Revise subpart K to read as follows:

Subpart K—Transportation Reporting
Sec.
102-117.345 What is the Federal Interagency Transportation System (FITS)?
102-117.350 Do I have to report?
102-117.355 Why should I report?
102-117.356 What information should I report?
102-117.360 How do I submit information to GSA through FITS?

Subpart K—Transportation Reporting

§ 102-117.345 What is the Federal Interagency Transportation System (FITS)?

The Federal Interagency Transportation System (FITS) is a Web-based tool used to capture an agency's transaction level transportation data for freight and cargo, including household goods (HHG), procured either through contract or tender that is otherwise not currently reported by agencies to GSA in compliance with 31 U.S.C. 3726, as well as agency transportation management information.

§ 102-117.350 Do I have to report?

No; however all agencies are strongly encouraged to report for the preceding fiscal year through FITS by October 31.

§ 102-117.355 Why should I report?

(a) Reporting your agency's prior fiscal year transaction level transportation data for freight and cargo, including HHG, procured either through contract or tender, as well as your transportation management information will enable GSA to:

(1) Assess the magnitude and key characteristics of transportation within the Government (e.g., how much agencies spend; what type of commodity is shipped; most used lanes, etc.); and

(2) Analyze and recommend changes to Governmentwide policies, standards, practices, and procedures to improve Government transportation management.

(b) Agencies that choose to report may identify opportunities within their organization to improve transportation management program performance as a result of the data analytics.

§ 102-117.356 What information should I report?

You should report your agency's prior fiscal year transaction level transportation data for freight and cargo, including HHG, and transportation management information. Transportation data that currently is otherwise provided to GSA in compliance with 31 U.S.C. 3726 is not requested. Transaction level transportation data submitted by agencies will remain confidential. Transportation management information should also be reported and should include related environmental information, agency points of contact, and transportation officer warrant and training data.

§ 102-117.360 How do I submit information to GSA through FITS?

GSA will post a Federal Management Regulation bulletin at http://gsa.gov/fmrbulletin, which will detail the FITS submission process, including specific data requested, and provide information concerning available FITS training.

[FR Doc. 2015-23996 Filed 9-21-15; 8:45 am]

BILLING CODE 6820-14-P